DEPARTMENT OF COMMERCE

Bureau of the Census

[Docket Number 0811171463-81465-01]

Annual Retail Trade Survey

AGENCY: Bureau of the Census, Commerce.

ACTION: Notice of determination.

SUMMARY: The Bureau of the Census (Census Bureau) is conducting the Annual Retail Trade Survey (ARTS). The Census Bureau has determined to collect data covering annual sales, e-commerce sales, percent of e-commerce sales to customers located outside the United States, year-end inventories, total operating expenses, purchases, accounts receivables, and for select industries, merchandise line sales and percent of sales by class of customer. The ARTS was not conducted in 2007 because these data were collected by the 2007 Economic Census—a detailed portrait of the Nation's economy conducted once every five years, from the national to the local level.

ADDRESSES: The Census Bureau will furnish report forms to organizations included in the survey. Additional copies are available upon written request to the Director, U.S. Census Bureau, Washington, DC 20233-0101.

FOR FURTHER INFORMATION CONTACT: Daniel Wellwood, Service Sector Statistics Division, at (301) 763-6816, or by e-mail at daniel.wellwood@census.gov.

SUPPLEMENTARY INFORMATION: The ARTS is a continuation of similar retail trade surveys conducted each year since 1951 (except 1954). It provides, on a comparable classification basis, annual sales, e-commerce sales, purchases, and year-end inventories for 2008. These data are not available publicly on a timely basis from nongovernmental or other governmental sources.

The Census Bureau will require a selected sample of firms operating retail establishments in the United States (with sales size determining the probability of selection) to report in the 2008 ARTS. We will furnish report forms to the firms covered by this survey and will require their submissions within 30 days after receipt. The sample will provide, with measurable reliability, statistics on the subjects specified above.

The Census Bureau is authorized to take surveys that are necessary to furnish current data on the subjects covered by the major censuses authorized by Title 13, United States Code (U.S.C.), Sections 182, 224, and 225. This survey will provide continuing and timely national statistical data on retail trade for the period between economic censuses. For 2008, the survey will, as it has in the past, operate as a separate sample of retail companies. The data collected in this survey will be similar to that collected in the past and within the general scope and nature of those inquiries covered in the economic census. These data will provide a sound statistical basis for the formation of policy by various government agencies. These data also apply to a variety of public and business needs.

Notwithstanding any other provision of law, no person is required to respond to, nor shall a person be subject to a penalty for failure to comply with, a collection of information subject to the requirements of the Paperwork Reduction Act (PRA) unless that collection of information displays a current valid Office of Management and Budget (OMB) control number. In accordance with the PRA, 44 U.S.C., Chapter 35, the OMB approved the Annual Retail Trade Survey under OMB Control Number 0607-0013.

Based upon the foregoing, I have directed that an annual survey be conducted for the purpose of collecting these data.

Dated: December 5, 2008.
Steve H. Murdock,
Director, Bureau of the Census.

[FR Doc. E8-29281 Filed 12-10-08; 8:45 am]

BILLING CODE 3510-07-P